DEPARTMENT OF TRANSPORTATION

Federal Aviation Administration

[Docket No. FAA-2024-1345]

Agency Information Collection Activities: Requests for Comments; Clearance of a New Approval of Information Collection: Adopt-a-School Feedback Form

AGENCY: Federal Aviation Administration (FAA), DOT.

ACTION: Notice and request for comments.

SUMMARY: In accordance with the Paperwork Reduction Act of 1995, FAA invites public comments about our intention to request the Office of Management and Budget (OMB) approval for a new information collection. The collection involves collecting feedback from participating school representatives to continuously improve the Adopt-a-School program. The information to be collected will be used to and/or is necessary because satisfaction rating is a metric measured by the Adopt-a-School program for success.

DATES: Written comments should be submitted by June 28, 2024.

ADDRESSES: Please send written comments:

By Electronic Docket: www.regulations.gov (Enter docket number into search field).

By mail: Christine Sharp, 800 Independence Ave., SW Washington DC 20591, Room 932.

FOR FURTHER INFORMATION CONTACT: Shannon Stearman by email at: sstearman@faa.gov; phone: 202-267-0236.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Adopt-a-School Feedback Form.

Form Numbers: N/A.

Type of Review: New Information Collection.

Background: The Adopt-a-School Program is a Signature Program of the FAA's Science Technology Engineering and Math (STEM) Aviation and Space Education (AVSED) Program. The program provides 6 aerospace STEM-based lessons to participating schools in the nine FAA regions across the country each year in alignment with the strategic goals of the program. This form allows participating schools to provide feedback to the FAA regarding their experience in the program including feedback regarding scheduling, lesson efficacy, and presentation success. This information will then be used to review the program, initiate continuous improvement discussions, and determine necessary changes and/or improvements for following iterations of the program.

Respondents: 500 Educators, Principals or Administrative Staff at interested schools across the country.

Frequency: Annually.

Estimated Average Burden per Response: 5 Minutes.

Estimated Total Annual Burden: Per respondent: $2.46 Total: $1,228.75.

Issued in Washington, DC, on April 23, 2024.
Christine Sharp,
Manager, Aviation Workforce and Education Division.

[FR Doc. 2024-09144 Filed 4-26-24; 8:45 am]

BILLING CODE 4910-13-P